DEPARTMENT OF STATE

[Public Notice: 12708]

Notice of Public Meeting in Preparation for International Maritime Organization TC 75 Meeting

The Department of State will conduct a public meeting at 10 a.m. on Tuesday, May 27, 2025, both in-person at Coast Guard Headquarters in Washington, DC, and via teleconference through Microsoft Teams. The primary purpose of the meeting is to prepare for the 75th session of the International Maritime Organization's (IMO) Technical Cooperation Committee (TC 75) to be held at the IMO Headquarters in London, United Kingdom from Monday, June 1, to Friday, June 4, 2025.

Members of the public may participate up to the capacity of the teleconference phone line, which can handle 500 participants or up to the seating capacity of the room if attending in-person. The meeting location will be the United States Coast Guard Headquarters, 5PS Conference Room, and the teleconference line will be provided to those who RSVP. To RSVP, participants should contact the meeting coordinator, LT Emily Sysko, by email at Emily.T.Sysko@uscg.mil.LT Sysko will provide access information for in-person and virtual attendance.

The agenda items to be considered at this meeting mirror those to be considered at TC 75, and include:

—Adoption of the agenda

—Work of other bodies and organizations

—Technical Cooperation Planning and Reporting: Annual Report for 2024 and Integrated Technical Cooperation Programme (ITCP) and Technical Cooperation Fund Allocation for 2026 and 2027

—Resource mobilization and partnerships

—The 2030 Agenda for Sustainable Development

—The Capacity-Building Decade 2021-2030 Strategy

—Regional presence and coordination

—IMO Member State Audit Scheme

—Capacity-building: Strengthening the impact of women in the maritime sector

—Global maritime training institution

—Status of implementation of the recommendations from the report of the evaluation of the ITCP activities for the period 2020-2030

—Application of the Committee's method of work

—Work programme

—Election of Chair and Vice-Chair for 2026

—Any other business

—Consideration of the report of the Committee on its seventy-fifth session

Please note: The IMO may, on short notice, adjust the TC 75 agenda to accommodate the constraints associated with the virtual meeting format. Any changes to the agenda will be reported to those who RSVP.

Those who plan to participate may contact the meeting coordinator, LT Emily Sysko, by email at Emily.T.Sysko@uscg.mil, by phone at (202) 372-1376, or in writing at United States Coast Guard (CG-5PS), ATTN: LT Emily Sysko, 2703 Martin Luther King Jr. Ave. SE, Stop 7509, Washington DC 20593-7509. Members of the public needing reasonable accommodation should advise LT Emily Sysko no later than May 13, 2025. Requests made after that date will be considered but might not be possible to fulfill. Please note that due to security considerations, two valid, government issued photo identifications must be presented to gain entrance to the Douglas A. Munro Coast Guard Headquarters Building at St. Elizabeth's. This building is accessible by taxi, public transportation, and privately owned conveyance (upon advanced request).

Additional information regarding this and other IMO public meetings may be found at: https://www.dco.uscg.mil/IMO.

(Authority: 22 U.S.C. 2656 and 5 U.S.C. 552)

Leslie W. Hunt,
Coast Guard Liaison Officer, Office of Ocean and Polar Affairs, Department of State.

[FR Doc. 2025-07362 Filed 4-28-25; 8:45 am]

BILLING CODE 4710-05-P